ENVIRONMENTAL PROTECTION AGENCY

[EPA-HQ-RCRA-2008-0911, FRL-8923-6]

Agency Information Collection Activities; Submission to OMB for Review and Approval; Comment Request; Notification of Regulated Waste Activity (Renewal), EPA ICR Number 0261.16, OMB Control Number 2050-0028

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before July 29, 2009.

ADDRESSES: Submit your comments, referencing Docket ID No. EPA-HQ-RCRA-2008-0911, to (1) EPA, either online using http://www.regulations.gov (our preferred method), or by e-mail to rcra-docket@epa.gov, or by mail to: RCRA Docket (28221T), U.S. Environmental Protection Agency, 1200 Pennsylvania Avenue, NW., Washington, DC 20460; and (2) OMB, by mail to: Office of Information and Regulatory Affairs, Office of Management and Budget (OMB), Attention: Desk Officer for EPA, 725 17th Street, NW., Washington, DC 20503.

FOR FURTHER INFORMATION CONTACT: Toshia King, Office of Solid Waste, mailcode 5303W, Environmental Protection Agency, 1200 Pennsylvania Ave., NW., Washington, DC 20460; telephone number: 703-308-7033; fax number: 703-308-8617; e-mail address: king.toshia@epa.gov.

SUPPLEMENTARY INFORMATION: EPA has submitted the following ICR to OMB for review and approval according to the procedures prescribed in 5 CFR 1320.12. On March 13, 2009 (74 FR 10909), EPA sought comments on this ICR pursuant to 5 CFR 1320.8(d). EPA received no comments. Any additional comments on this ICR should be submitted to EPA and OMB within 30 days of this notice.

EPA has established a public docket for this ICR under Docket ID No. EPA-HQ-RCRA-2008-0911, which is available for online viewing at http://www.regulations.gov, or in person viewing at the Resource Conservation and Recovery Act (RCRA) Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is (202) 566-1744, and the telephone number for the RCRA Docket is (202) 566-0270.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Notification of Regulated Waste Activity (Renewal).

ICR Numbers: EPA ICR No. 0261.16, OMB Control No. 2050-0028.

ICR Status: This ICR is scheduled to expire on June 30, 2009. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: Section 3010 of subtitle C of RCRA, as amended, requires any person who generates or transports regulated waste or who owns or operates a facility for the treatment, storage, or disposal (TSD) of regulated waste to notify EPA of their activities, including the location and general description of activities and the regulated wastes handled. The facility is then issued an EPA Identification number. The facilities are required to use the Notification Form (EPA Form 8700-12) to notify EPA of their hazardous waste activities. EPA needs this information to determine the universe of persons who generate, handle, and manage these regulated wastes; assign EPA Identification Numbers; and ensure that these regulated wastes are managed in a way that protects human health and the environment, as required by RCRA, as amended.

EPA enters notification information submitted by respondents into the EPA National data base and assigns EPA Identification Numbers. EPA uses the information primarily for tracking purposes, and secondarily for a variety of enforcement and inspection purposes. In addition, EPA uses this information to identify the universe of regulated waste generators, handlers, and managers and their specific regulated waste activities. Finally, EPA uses this information to ensure that regulated waste is managed properly, that statutory provisions are upheld, and that regulations are adhered to by facility owners or operators.

This ICR will eventually be merged with the ICR for the Hazardous Waste Report (OMB Control No. 2050-0024), since this form (EPA Form No. 8700-12) is part of the Hazardous Waste Report (EPA Form No. 8700-13 A/B).

Burden Statement: The annual public reporting and recordkeeping burden for this collection of information is estimated to average 2 hours per response for the initial notification, and 1 hour per response for any subsequent notifications. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Entities potentially affected by this action are business or other for-profit as well as State, Local, or Tribal governments.

Estimated Number of Respondents: 55,965.

Frequency of Response: On occasion.

Estimated Total Annual Hour Burden: 139,656.

Estimated Total Annual Cost: $9,081,569, includes $255,830 annualized capital or O&M costs.

Changes in the Estimates: There is an increase of 39,349 hours in the total estimated burden currently identified in the OMB Inventory of Approved ICR Burdens. This increase is due to the inclusion of State burden hours that were not previously counted.

Dated: June 16, 2009.
John Moses,
Director, Collection Strategies Division.

[FR Doc. E9-15310 Filed 6-26-09; 8:45 am]

BILLING CODE 6560-50-P